DEPARTMENT OF COMMERCE

International Trade Administration

[A-570-806]

Silicon Metal From the People's Republic of China: Final Results of the Expedited Fourth Sunset Review of the Antidumping Duty Order

AGENCY: Enforcement and Compliance, International Trade Administration, Department of Commerce.

SUMMARY: As a result of this fourth sunset review, the Department of Commerce (the Department) finds that revocation of the antidumping duty order on silicon metal from the People's Republic of China (PRC) would be likely to lead to continuation or recurrence of dumping, at the level indicated in the “Final Results of Sunset Review” section of this notice, infra.

DATES: Effective July 3, 2017.

FOR FURTHER INFORMATION CONTACT: Karine Gziryan or Howard Smith, AD/CVD Operations, Office 4, Enforcement and Compliance, International Trade Administration, U.S. Department of Commerce, 1401 Constitution Avenue NW., Washington, DC 20230; telephone: (202) 482-4081 or (202) 482-5193, respectively.

Background

On June 10, 1991, the Department published in the Federal Register the antidumping duty order on silicon metal from the PRC.¹ On March 3, 2017, the Department published the notice of initiation of the fourth sunset review of the Order, pursuant to section 751(c) of the Tariff Act of 1930, as amended (the Act).² On March 3, 2017, pursuant to 19 CFR 351.218(d)(1), the Department received a timely and complete notice of intent to participate in the sunset review from Globe Metallurgical, Inc., a domestic producer of silicon metal (Globe).³ This notice was filed within the time period specified in 19 CFR 351.218(d)(1)(i).⁴ On March 24, 2017, pursuant to 19 CFR 351.218(d)(3)(i), Globe filed a timely and adequate substantive response.⁵ The Department did not receive a substantive response from any respondent interested party. As a result, pursuant to section 751(c)(3)(B) of the Act and 19 CFR 351.218(e)(1)(ii)(C)(2), the Department conducted an expedited (120-day) fourth sunset review of the Order.

¹ See Antidumping Duty Order: Silicon Metal From the People's Republic of China, 56 FR 26649 (June 10, 1991) (Order).

² See Initiation of Five-Year (Sunset) Review, 82 FR 12438 (March 3, 2017).

³ See Letter from Domestic Interested Party (Globe) re Silicon Metal from the People's Republic of China; Fourth Sunset Review; Notice of Intent to Participate dated March 3, 2017.

⁴ See Id.

⁵ See Silicon Metal from the People's Republic of China; Fourth Sunset Review; Substantive Response of Globe Metallurgical Inc. to the Notice of Initiation, dated March 24, 2017 (Globe Substantive Response).

Scope of the Order

The merchandise covered by the order is silicon metal containing at least 96.00 percent, but less than 99.99 percent of silicon by weight. Also covered by the order is silicon metal containing between 89.00 and 96.00 percent silicon by weight but which contains a higher aluminum content than the silicon metal containing at least 96.00 percent but less than 99.99 percent silicon by weight (58 FR 27542, May 10, 1993). Silicon metal is currently provided for under subheadings 2804.69.10 and 2804.69.50 of the Harmonized Tariff Schedule (HTSUS) as a chemical product, but is commonly referred to as a metal. Semiconductor-grade silicon (silicon metal containing by weight not less than 99.99 percent of silicon and provided for in subheading 2804.61.00 of the HTSUS) is not subject to this order. Although the HTSUS numbers are provided for convenience and customs purposes, the written description remains dispositive.

Analysis of Comments Received

A complete discussion of all issues raised in this sunset review, specifically the likelihood of continuation or recurrence of dumping and the magnitude of the margins likely to prevail if the Order were to be revoked, is provided in the accompanying Issues and Decision Memorandum, which is hereby adopted by this notice.⁶ The Issues and Decision Memorandum is a public document and is on file electronically via Enforcement and Compliance's Antidumping and Countervailing Duty Centralized Electronic Service System (ACCESS). ACCESS is available to registered users at http://access.trade.gov and in the Central Records Unit, Room B8024 of the main Department of Commerce building. In addition, a complete version of the Issues and Decision Memorandum can be accessed at http://enforcement.trade.gov/frn/. The signed Issues and Decision Memorandum and the electronic version of the Issues and Decision Memorandum are identical in content.

⁶ See Silicon Metal from the People's Republic of China: Issues and Decision Memorandum for the Expedited Fourth Sunset Review of the Antidumping Duty Order on Silicon Metal from the People's Republic of China dated (Issues and Decision Memorandum), dated concurrently with this notice.

Final Results of Sunset Review

Pursuant to section 752(c)(3) of the Act, the Department determines that revocation of the Order would likely lead to continuation or recurrence of dumping, and that the magnitude of the dumping margins likely to prevail would be weighted-average dumping margins up to 139.49 percent.

Notification Regarding Administrative Protective Orders

This notice also serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the results and notice in accordance with sections 751(c), 752(c), and 777(i)(1) of the Act and 19 CFR 351.218.

Dated: June 27, 2017.
Ronald K. Lorentzen,
Acting Assistant Secretary for Enforcement and Compliance.

[FR Doc. 2017-13940 Filed 6-30-17; 8:45 am]

BILLING CODE 3510-DS-P